DEPARTMENT OF ENERGY

Federal Energy Regulatory Commission

Combined Notice of Filings #1

Take notice that the Commission received the following electric rate filings:

Docket Numbers: ER22-2178-001.

Applicants: ORNI 50 LLC.

Description: Tariff Amendment: Amendment to be effective 6/24/2022.

Filed Date: 8/16/22.

Accession Number: 20220816-5027.

Comment Date: 5 p.m. ET 8/30/22.

Docket Numbers: ER22-2187-000; ER22-2188-000.

Applicants: Northwest Ohio IA, LLC, Northwest Ohio Solar, LLC.

Description: Supplement to June 24, 2022 Northwest Ohio Solar, LLC, et al. tariff filing.

Filed Date: 8/12/22.

Accession Number: 20220812-5237.

Comment Date: 5 p.m. ET 9/2/22.

Docket Numbers: ER22-2246-000.

Applicants: BCE Los Alamitos, LLC.

Description: Report Filing: Supplement to Market-Based Rate Application to be effective N/A.

Filed Date: 8/16/22.

Accession Number: 20220816-5061.

Comment Date: 5 p.m. ET 9/6/22.

Docket Numbers: ER22-2337-000.

Applicants: New Hampshire Industries, Inc.

Description: Notice of Cancellation of Market Based Rate Tariff of New Hampshire Industries, Inc.

Filed Date: 7/7/22.

Accession Number: 20220707-5224.

Comment Date: 5 p.m. ET 9/6/22.

Docket Numbers: ER22-2646-001.

Applicants: Graphite Solar 1, LLC.

Description: Notice of Non-Material Change in Status of Graphite Solar I, LLC.

Filed Date: 8/16/22.

Accession Number: 20220816-5110.

Comment Date: 5 p.m. ET 9/6/22.

Docket Numbers: ER22-2663-000.

Applicants: Aron Energy Prepay 15 LLC.

Description: Baseline eTariff Filing: Market-Based Rate Application to be effective 10/15/2022.

Filed Date: 8/15/22.

Accession Number: 20220815-5168.

Comment Date: 5 p.m. ET 9/6/22.

Docket Numbers: ER22-2664-000.

Applicants: Aron Energy Prepay 16 LLC.

Description: Baseline eTariff Filing: Market-Based Rate Application to be effective 10/15/2022.

Filed Date: 8/15/22.

Accession Number: 20220815-5170.

Comment Date: 5 p.m. ET 9/6/22.

Docket Numbers: ER22-2665-000.

Applicants: PJM Interconnection, L.L.C.

Description: Tariff Amendment: Notice of Cancellation of WMPA, SA No. 6021; Queue No. AG1-064 to be effective 8/23/2022.

Filed Date: 8/16/22.

Accession Number: 20220816-5011.

Comment Date: 5 p.m. ET 9/6/22.

Docket Numbers: ER22-2666-000.

Applicants: Cheyenne Light, Fuel and Power Company.

Description: Tariff Amendment: Notice of Cancellation of Service Agreement No. 101 to be effective 7/19/2022.

Filed Date: 8/16/22.

Accession Number: 20220816-5079.

Comment Date: 5 p.m. ET 9/6/22.

Docket Numbers: ER22-2667-000.

Applicants: ISO New England Inc.

Description: ISO New England Inc. submits Capital Budget Quarterly Filing for Second Quarter of 2022.

Filed Date: 8/11/22.

Accession Number: 20220811-5164.

Comment Date: 5 p.m. ET 9/1/22.

Docket Numbers: ER22-2668-000.

Applicants: Wisconsin Electric Power Company.

Description: § 205(d) Rate Filing: Formula Rate Update Filing for 2021 Rate Year to be effective 10/16/2022.

Filed Date: 8/16/22.

Accession Number: 20220816-5090.

Comment Date: 5 p.m. ET 9/6/22.

Docket Numbers: ER22-2669-000.

Applicants: PJM Interconnection, L.L.C.

Description: § 205(d) Rate Filing: Second Revised No. 3518 NITSA among PJM and LGE/KU to be effective 6/1/2023.

Filed Date: 8/16/22.

Accession Number: 20220816-5104.

Comment Date: 5 p.m. ET 9/6/22.

Docket Numbers: ER22-2670-000.

Applicants: Alabama Power Company, Georgia Power Company, Mississippi Power Company.

Description: § 205(d) Rate Filing: Alabama Power Company submits tariff filing per 35.13(a)(2)(iii: Blackbriar Farm LGIA Filing to be effective 8/8/2022.

Filed Date: 8/16/22.

Accession Number: 20220816-5105.

Comment Date: 5 p.m. ET 9/6/22.

Docket Numbers: ER22-2671-000.

Applicants: Georgia Power Company.

Description: Initial rate filing: SR Ailey Affected System Construction Agreement Filing to be effective 8/2/2022.

Filed Date: 8/16/22.

Accession Number: 20220816-5117.

Comment Date: 5 p.m. ET 9/6/22.

Docket Numbers: ER22-2672-000.

Applicants: American Municipal Power, Inc., PJM Interconnection, L.L.C.

Description: § 205(d) Rate Filing: American Municipal Power, Inc. submits tariff filing per 35.13(a)(2)(iii: Second Revised Service Agreement No. 4264—NITSA among PJM and AMP to be effective 8/3/2022.

Filed Date: 8/16/22.

Accession Number: 20220816-5124.

Comment Date: 5 p.m. ET 9/6/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2022.
Debbie-Anne A. Reese,
Deputy Secretary.

[FR Doc. 2022-18043 Filed 8-19-22; 8:45 am]

BILLING CODE 6717-01-P